DEPARTMENT OF EDUCATION

34 CFR Chapter VI

Student Financial Assistance

AGENCY: Department of Education.

ACTION: Notice of intention to establish negotiated rulemaking committees on issues for programs authorized under Title IV of the Higher Education Act of 1965, as amended.

SUMMARY: We announce our intention to establish two negotiated rulemaking committees to prepare proposed regulations under Title IV of the Higher Education Act of 1965, as amended (HEA). Each committee will include representatives with interests that are significantly affected by the subject matter of the proposed regulations. We also announce a meeting to discuss the agenda and the procedures for the negotiated rulemaking sessions. We request nominations for members who represent individuals and organizations of key stakeholder constituencies that are involved in the student financial assistance programs authorized under Title IV of the HEA to serve on these committees.

DATES: We must receive your nominations for membership on the committees on or before December 19, 2001. We will hold a public meeting on December 14, 2001, at the Department of Education in Washington, DC for interested parties to discuss the agenda and the procedures for the negotiated rulemaking sessions.

ADDRESSES: Please send your nominations to Rose Fletcher, U.S. Department of Education, 1990 K Street, NW., Room 8061, Washington, DC 20006, or fax to Rose Fletcher at (202) 502-7873. You may also email your nominations to: Rose.Fletcher@ed.gov.

The meeting on December 14, 2001 will be held at the GSA Auditorium, Regional Office Building #3, 7th and D Street, SW., Washington, DC from 9:00 am to 12:00 pm. Anyone interested in attending the meeting should contact Rose Fletcher at (202) 502-7812.

FOR FURTHER INFORMATION CONTACT: For information about the meetings and the nomination submission process: Rose Fletcher, U.S. Department of Education, 1990 K Street, NW., Room 8061, Washington, DC 20006. Telephone: (202) 502-7812.

For information about negotiated rulemaking: Carney McCullough, U.S. Department of Education, 1990 K Street, NW., Room 8071, Washington, DC 20006. Telephone (202) 502-7639.

If you use a telecommunications device for the deaf (TDD) you may call the Federal Information Relay Service (FIRS) at 1-800-877-8339.

Individuals with disabilities may obtain this document in an alternative format (e.g., Braille, large print, audiotape, or computer diskette) on request to the contact person for information about the meetings listed in the preceding paragraph.

SUPPLEMENTARY INFORMATION: The meeting site is accessible to individuals with disabilities. If you will need an auxiliary aid or service to participate in the meeting (e.g., interpreting service, assistive listening device, or materials in alternative format), notify the contact person for information about the meeting listed in this notice in advance of the scheduled meeting date. Although we will attempt to meet a request we receive, we may not be able to make available the requested auxiliary aid or service because of insufficient time to arrange it.

Regulatory Issues

We intend to act on regulatory proposals to streamline the current Federal student financial assistance program regulations while maintaining or improving program integrity. Many of these proposals were submitted by individuals and organizations in response to a request for such recommendations from the affected public made on May 24, 2001 by Representative Howard P. “Buck” McKeon and Representative Patsy Mink, the Chairman and Ranking Member of the Subcommittee on 21st Century Competitiveness of the Education and the Workforce Committee of the U.S. House of Representatives. The Subcommittee received over 3,000 responses on the regulations between May and the end of July 2001. Those proposals that would not in fact require statutory amendments have been provided to the Department for consideration.

In acting on these proposals and minor changes from the Department, we intend to advance the Administration's management reform priorities by taking steps that will provide immediate, concrete and measurable results in the near term. In reforming the Federal Government, President Bush has called for an “active, but limited” role for the Federal Government that empowers citizens to make decisions, ensures results through accountability, and promotes innovation through competition. To advance these goals, we intend to place priority on changes that will reduce the expense and difficulty of complying with the current Federal student financial assistance regulations, reduce the operating costs of administering the programs through greater use of e-commerce, simplify processes and improve service, and effect other changes that will improve program management and the integrity of the student financial assistance programs.

Structure of the Committees

We anticipate having two negotiating committees. The ultimate goal of negotiated rulemaking is to reach a consensus on proposed regulations through discussion and negotiation among interested and affected parties, including the Department of Education. With this in mind, we will conduct these negotiations within a structure that is designed to meet this goal fairly and efficiently. One negotiating committee will focus on student loan issues while the other will focus on other program issues. Our goal is to establish committees that are large enough to allow significantly affected parties to be represented while keeping the committees' size manageable.

Nominations of individuals from coalitions of individuals and organizations representing the constituencies identified below are strongly encouraged. Moreover, the Department encourages nominations of individuals who are actively involved in administering the Federal student financial assistance programs or whose interests are significantly affected by the regulations. The committees may also create subgroups on particular topics that would involve additional individuals who are not members of the committees. Individuals who are not selected as members of the committees will be able to attend the meetings, have access to the individuals representing their constituency, and will also be able to participate in informal working groups on various issues between the meetings. The meetings will be open to the public.

The Department has identified the constituencies listed below as having interests that are significantly affected by the subject matter of the negotiated rulemakings. The Department anticipates that individuals representing each of these constituencies will participate as members of one or both of the negotiated rulemaking committees. These constituencies are:

• Students.

• Legal assistance organizations that represent students.

• Financial aid administrators at institutions of higher education.

• Business officers and bursars at institutions of higher education and institutional servicers (including collection agencies).

• Institutions of higher education eligible to receive Federal assistance under Title III, Parts A and B and Title V of the HEA, which includes Historically Black Colleges and Universities, Hispanic-Serving Institutions, American Indian Tribally Controlled Colleges and Universities, Alaska Native and Native Hawaiian-Serving Institutions, and other institutions with a substantial enrollment of needy students as defined in Title III.

• Two-year public institutions of higher education.

• Four-year public institutions of higher education.

• Private, non-profit institutions of higher education.

• Private, for-profit institutions of higher education.

• Guaranty agencies and guaranty agency servicers (including collection agencies).

• Lenders, secondary markets, and loan servicers.

While an individual selected to represent a constituency may be a representative of a group, institution, or industry participant, the individual will be expected to represent the interests of the entire constituency on the committee and to confer with other individuals and representatives of groups within that constituency.

Nominations should include:

• The name of the nominee and a description of the interests that he or she represents.

• Evidence of support from individuals or groups of the constituency that he or she will represent.

• The nominee's commitment that he or she will actively participate in good faith in the development of the proposed regulations.

Schedule for Negotiations

We will hold a total of three meetings of each committee, all of which will be held at the Department of Education in Washington, DC. The following is the tentative schedule for negotiations for the committees. This schedule is subject to change.

Meeting 1: Week of January 14, 2002

Meeting 2: Week of March 4, 2002

Meeting 3: Week of April 22, 2002

The committee will use electronic mail to exchange documents and discuss proposals between meetings.

The schedule outlined above is expected to allow sufficient time for us to provide the public with a 60-day comment period for the proposed regulations, as well as to provide sufficient time to address any issues raised in the comment period, while meeting the November 1 statutory deadline for publishing student financial assistance regulations.

Electronic Access to This Document

You may view this document, in Text or Adobe Portable Document Format (PDF) on the Internet at the following site: http://www.ed.gov/legislation/FedRegister.

To use the PDF you must have Adobe Acrobat Reader, which is available free at this site. If you have questions about using PDF, call the U.S. Government Printing Office toll free at 1-888-293-6498; or in the Washington, DC area at (202) 512-1530.

Note: The official version of this document is the document published in the Federal Register. Free Internet access to the official edition of the Federal Register and the Code of Federal Regulations is available on GPO access at: http://www.access.gpo.gov/nara/index.html.

Program Authority: 20 U.S.C. 1098a.

Dated: December 3, 2001.
Rod Paige,
Secretary of Education.

[FR Doc. 01-30260 Filed 12-4-01; 8:45 am]

BILLING CODE 4000-01-U